DEPARTMENT OF HOUSING AND URBAN DEVELOPMENT

[Docket No. FR-7034-N-29]

30-Day Notice of Proposed Information Collection: Section 3 Reporting; OMB Control No. 2501-New

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: July 16, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on March 11, 2021 at 86 FR 13911.

A. Overview of Information Collection

Title of Information Collection: Section 3 Reporting.

OMB Approval Number: 2528-New.

Type of Request: New collection.

Form Number: HUD Form 60002-A, HUD Form XXXX Opportunity Portal, HUD Form XXXX Business Registry.

Description of the need for the information and proposed use: This collection is to reflect changes to the Section 3 regulation, published in the Federal Register 9/29/2020 (https://www.federalregister.gov/documents/2020/09/29/2020-19185/enhancing-and-streamlining-the-implementation-of-section-3-requirements-for-creating-economic). The rule is effective November 30, 2020 and replaces the current regulations found at 24 CFR part 135.

Form 60002A: This form is used to collect information from PIH recipients annually on the benchmarks (https://www.federalregister.gov/documents/2020/09/29/2020-19183/section-3-benchmarks-for-creating-economic-opportunities-for-low--and-very-low-income-persons-and#:~:text=HUD%20defines%20a%20Section%203,very%20low%2Dincome%20persons%3B%20or) required to achieve compliance with Section 3.

Opportunity Portal: The Opportunity Portal is designed to help HUD grantees and Section 3 businesses meet their Section 3 obligations for employment of low- and very-low income persons and provide other economic opportunities. The site is to be used by either Low- and Very-Low Income persons or Employers. Section 3 workers may use the site to Search for Jobs and post their profile/employment history for companies to search. Employers may use the site for posting job/contract opportunities or search for residents to fill positions.

Business Registry: The Business Registry is a listing of firms that have self-certified that they meet the regulatory definition of a Section 3 business and are included in a searchable online database that can be used by agencies that receive HUD funds, developers, contractors, and others to facilitate the award of certain HUD-funded contracts.

Information collection | Number of respondents | Frequency of response | Responses per annum | Burden hour per response | Burden hours | Hourly per response | Annual cost
Opportunity Portal | 350.00 | 1.00 | 350.00 | 1.00 | 350.00 | $7.25 | $2,537.50
Business Registry * | 6,000.00 | 1.00 | 6000.00 | 1.00 | 6,000.00 | 45.80 | 274,800.00
HUD Form 60002-A ** | 4,283.00 | 1.00 | 4283.00 | 3.00 | 12,849.00 | 18.12 | 232,823.88
Total | 10,633.00 |  |  |  | 19,199.00 |  | 510,161.38

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Anna P. Guido,
Department Reports Management Officer, Office of the Chief Information Officer.

[FR Doc. 2021-12587 Filed 6-15-21; 8:45 am]

BILLING CODE 4210-67-P